FEDERAL COMMUNICATIONS COMMISSION

47 CFR Parts 51 and 54

[CC Docket No. 98-121, FCC 00-173]

Applications of BellSouth Corporation, BellSouth Telecommunications, Inc., and BellSouth Long Distance, Inc., for Provision of In-Region, InterLATA Services in Louisiana .

AGENCY: Federal Communications Commission.

ACTION: Final rule; petition for reconsideration.

SUMMARY: This document denies to reconsider the Commission's Second BellSouth Louisiana Order with respect to the issues on which reconsideration is sought, no petitioner raises arguments that would cause us to change our decision to deny BellSouth's application to provide long distance service in the state of Louisiana.

DATES: Effective July 19, 2000.

FOR FURTHER INFORMATION CONTACT: Janice M. Myles, Paralegal Specialist; Johanna Mikes; and/or Ann Stevens, Attorney, Common Carrier Bureau, Policy and Program Planning Division, (202) 418-1580. Further information may also be obtained by calling the Common Carrier Bureau's TTY number: (202) 418-0484.

SUPPLEMENTARY INFORMATION: This is a summary of the Commission's Order on Reconsideration adopted May 15, 2000, and released June 19, 2000. The full text of this Order is available for inspection and copying during normal business hours in the FCC Reference Center, 445 12th Street SW, Room CY-A257, Washington, DC. The complete text also may be obtained through the World Wide Web, at http://www.fcc.gov/Bureaus/CommonCarrier/Orders/fcc00-173.wp, or may be purchased from the Commission's copy contractor, International Transcription Services, Inc., (202) 857-3800, 1231 20th Street NW, Washington, DC 20036.

Regulatory Flexibility Certification

In this present Order, the Commission promulgates no additional final rules, and our action does not affect the previous analysis.

Synopsis of Order on Reconsideration

1. BellSouth Corporation (BellSouth), AT&T Corp. (AT&T), and Sprint Communications Company (Sprint) filed petitions for reconsideration and/or clarification of the Commission's order denying BellSouth's application for authority to provide in-region, interLATA services in the state of Louisiana pursuant to section 271 of the Communications Act of 1934, as amended (Act). For the reasons discussed below, we deny these petitions.

2. With respect to the issues on which reconsideration is sought, no petitioner raises arguments that would cause us to change our decision to deny BellSouth's application to provide long distance service in the state of Louisiana. Section 271's statutory framework requires the Commission to evaluate complex issues arising in the relevant state's local telecommunications market as it transitions to competitive market conditions. In this context, the Commission frequently relies upon its specialized judgment and expertise to render informed decisions and predictions about market conditions. Having done so in this case, the Commission finds that the petitioners have not raised any new facts or arguments that warrant reconsideration of the Second BellSouth Louisiana Order. Therefore, there is no reason to reconsider our initial analysis.

3. As to the range of issues for which the petitioners seek further guidance for future section 271 applications, we believe that we have provided sufficient guidance on the requirements of section 271. The Second BellSouth Louisiana Order followed four prior orders addressing section 271 applications, including a prior application by BellSouth for Louisiana. Each of these orders informed parties of the requirements of section 271. Moreover, the Commission recently approved Bell Atlantic's section 271 application to provide long distance services in New York. In the order approving that application, the Commission included a comprehensive recitation of the requirements for in-region, interLATA entry under section 271.

4. The petitions for reconsideration and/or clarification filed in the captioned docket are Denied.

Federal Communications Commission.
Magalie Roman Salas,
Secretary.

[FR Doc. 00-18187 Filed 7-18-00; 8:45 am]

BILLING CODE 6712-01-P